DEPARTMENT OF ENERGY

Federal Energy Regulatory Commission

[Docket Nos. CP17-458-022 CP19-17-003]

Midship Pipeline Company, LLC; Notice of Request for Extension of Time

Take notice that on August 22, 2024, Midship Pipeline Company, LLC (Midship) requested that the Commission grant an extension of time, until December 31, 2028, to construct and place into service its Midcontinent Supply Header Interstate Pipeline Project (Project) located in Kingfisher, Canadian, Grady, Garvin, Stephens, Carter, Johnston, and Bryan Counties, Oklahoma, as authorized in the August 13, 2018 Order Issuing Certificate (Order).¹ The Order required Midship to complete construction of the Project and make it available for service within two years of the date of the Order, or by August 13, 2020.

¹ See Midship Pipeline Company, LLC, 164 FERC ¶ 61,103 (2018), order amending certificate, Midship Pipeline Company, LLC, 166 FERC ¶ 62,039 (2019); Midship Pipeline Company, LLC, 168 FERC ¶ 61,147 (2019); Midship Pipeline Company, LLC, 170 FERC ¶ 61,137 (2020).

On December 17, 2020, the Commission granted Midship an extension of time, until December 31, 2022, to complete construction of the Project and make it available for service.² The Commission has subsequently granted one extension of time, making the current date for the Project facilities to be constructed and placed into service December 31, 2024.³

² Midship Pipeline Company, LLC, 173 FERC ¶ 61,255 (2020).

³ Midship Pipeline Company, LLC, 182 FERC ¶ 61,031 (2023).

Midship states that, due to adverse economic and logistical conditions induced by the COVID-19 pandemic, commercial progress was slowed. Midship states that these unforeseen circumstances still preclude the project from reaching full commercialization, and that additional time is required to complete the installation and placing into service of three remaining compressor units.

This notice establishes a 15-calendar day intervention and comment period deadline. Any person wishing to comment on Midship's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,⁴ the Commission will aim to issue an order acting on the request within 45 days.⁵ The Commission will address all arguments relating to whether the applicant has demonstrated there is good cause to grant the extension.⁶ The Commission will not consider arguments that re-litigate the issuance of the certificate order, including whether the Commission properly found the project to be in the public convenience and necessity and whether the Commission's environmental analysis for the certificate complied with the National Environmental Policy Act (NEPA).⁷ At the time a pipeline requests an extension of time, orders on certificates of public convenience and necessity are final and the Commission will not re-litigate their issuance.⁸ The Director of the Office of Energy Projects, or his or her designee, will act on all of those extension requests that are uncontested.

⁴ Contested proceedings are those where an intervenor disputes any material issue of the filing. 18 CFR 385.2201(c)(1).

⁵ Algonquin Gas Transmission, LLC, 170 FERC ¶ 61,144, at P 40 (2020).

⁶ Id. at P 40.

⁷ Similarly, the Commission will not re-litigate the issuance of an NGA section 3 authorization, including whether a proposed project is not inconsistent with the public interest and whether the Commission's environmental analysis for the permit order complied with NEPA.

⁸ Algonquin Gas Transmission, LLC, 170 FERC ¶ 61,144, at P 40 (2020).

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading.

To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

The Commission strongly encourages electronic filings of comments in lieu of paper using the “eFile” link at http://www.ferc.gov. In lieu of electronic filing, you may submit a paper copy which must reference the Project docket number.

To file via USPS: Debbie-Anne A. Reese, Acting Secretary, Federal Energy Regulatory Commission, 888 First Street NE, Washington, DC 20426.

To file via any other courier: Debbie-Anne A. Reese, Acting Secretary, Federal Energy Regulatory Commission, 12225 Wilkins Avenue, Rockville, Maryland 20852.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5:00 p.m. Eastern Time on September 12, 2024.

Dated: August 28, 2024.
Debbie-Anne A. Reese,
Acting Secretary.

[FR Doc. 2024-19887 Filed 9-4-24; 8:45 am]

BILLING CODE 6717-01-P